DEPARTMENT OF TRANSPORTATION

Federal Aviation Administration

Agency Information Collection Activities: Requests for Comments; Clearance of Renewed Approval of Information Collection: Performance and Handling Requirements for Rotorcraft

AGENCY: Federal Aviation Administration (FAA), DOT.

ACTION: Notice and request for comments.

SUMMARY: In accordance with the Paperwork Reduction Act of 1995, FAA invites public comments about our intention to request from the Office of Management and Budget (OMB) approval to renew an information collection. The FAA requires that certain performance information be provided in the Rotorcraft Flight Manual in order to show compliance to the regulatory requirements. The flight manual, by regulation, must be furnished with each aircraft.

DATES: Written comments should be submitted by November 22, 2010.

FOR FURTHER INFORMATION CONTACT: Carla Scott on (202) 267-9895, or by e-mail at: Carla.Scott@faa.gov.

SUPPLEMENTARY INFORMATION: OMB Control Number: 2120-0726.

Title: Performance and Handling Requirements for Rotorcraft.

Form Numbers: There are no FAA forms associated with this collection.

Type of Review: Renewal of an information collection.

Background: In order to determine that a rotorcraft is a safe vehicle, an applicant for a type certificate must show compliance to specific minimum requirements. In order to show compliance, an applicant must substantiate the type design through analysis, testing, design limitations, and other acceptable means. This substantiation requires that certain performance information for safe operation of the rotorcraft be presented, in the form of tables, diagrams, or charts, in the flight manual. FAA engineers and designated engineers review the required data submittals to determine that the rotorcraft complies with the applicable minimum safety requirements for rotorcraft performance and that the rotorcraft has no unsafe features.

Respondents: Approximately 4 normal or transport category rotorcraft certification applicants.

Frequency: Information is collected on occasion.

Estimated Average Burden per Response: 5.5 hours.

Estimated Total Annual Burden: 22 hours.

Send comments to the FAA at the following address: Ms. Carla Scott, Room 712, Federal Aviation Administration, IT Enterprises Business Services Division, AES-200, 800 Independence Ave., SW., Washington, DC 20591.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on September 17, 2010.
Carla Scott,
FAA Information Collection Clearance Officer, IT Enterprises Business Services Division, AES-200.

[FR Doc. 2010-23732 Filed 9-22-10; 8:45 am]

BILLING CODE 4910-13-P